DEPARTMENT OF HEALTH AND HUMAN SERVICES

Centers for Medicare & Medicaid Services

[CMS-5011-WN2]

Medicare and Medicaid Programs; Solicitation of Proposals for the Private, For-Profit Demonstration Project for the Program of All-Inclusive Care for the Elderly (PACE); Cancellation of Withdrawal

AGENCY: Centers for Medicare & Medicaid Services (CMS), HHS.

ACTION: Cancellation of a withdrawal notice.

SUMMARY: This document cancels the withdrawal of the “Notice for the Solicitation of Proposals for the Private, For-Profit Demonstration Project for the Program of All-Inclusive Care for the Elderly (PACE)” published in the Federal Register on November 26, 2004. The November 26, 2004 notice was published in error, and we do not wish to withdraw the original notice of solicitation published on August 10, 2001.

The solicitation notice solicited proposals from private, for-profit organizations for a fully-capitated joint Medicare and Medicaid demonstration. The goal of the solicitation notice was to determine whether the risk-based long-term care model employed by the nonprofit PACE could be replicated successfully by for-profit organizations.

EFFECTIVE DATE: The notice announcing the withdrawal of solicitation is cancelled effective February 25, 2005.

FOR FURTHER INFORMATION CONTACT: Michael Henesch, (410) 786-6685.

SUPPLEMENTARY INFORMATION: Section 4804(a)(2) of the Balanced Budget Act of 1997 (BBA) requires us to conduct a study to compare the costs, quality, and access to services provided by for-profit entities to those of nonprofit Program of All-Inclusive Care for the Elderly (PACE) providers. Section 4801(h)(2)(A) of the BBA states that the terms and conditions for the for-profit PACE must be the same as those for PACE providers that are nonprofit, private organizations except that only 10 waivers may be granted.

On August 10, 2001, we published a notice in the Federal Register (66 FR 42229). The notice solicited proposals from for-profit entities to demonstrate that they could successfully provide comprehensive coordinated care for the frail elderly under a prepaid fully-capitated payment system.

On November 26, 2004, we published a notice in the Federal Register (69 FR 68931) withdrawing the August 10, 2001 solicitation. To date, we have received one application, and we do not want to foreclose the application process for other interested parties. Therefore, we are canceling the previously published notice of withdrawal.

This document does not impose information collection and recordkeeping requirements. Consequently, it need not be reviewed by the Office of Management and Budget under the authority of the Paperwork Reduction Act of 1995.

Authority: Section 1894(h) and 1934(h) of the Social Security Act (42 U.S.C. 1395).

(Catalog of Federal Domestic Assistance Program No. 93.778, Medical Assistance Program; No. 93.773 Medicare—Hospital Insurance Program; and No. 93.774, Medicare-Supplementary Medical Insurance Program)
Dated: February 17, 2005.
Mark B. McClellan,
Administrator, Centers for Medicare & Medicaid Services.

[FR Doc. 05-3553 Filed 2-24-05; 8:45 am]

BILLING CODE 4120-01-P